DEPARTMENT OF HOMELAND SECURITY

Coast Guard

33 CFR Part 117

[Docket No. USCG-2025-0805]

RIN 1625-AA09

Drawbridge Operation Regulation; Newark Bay, Between the City of Newark and City of Bayonne, NJ

AGENCY: Coast Guard, DHS.

ACTION: Notice of proposed rulemaking.

SUMMARY: The Coast Guard proposes to modify the operating regulation that governs the Lehigh Valley Drawbridge across Newark Bay, mile 4.6, between the City of Newark and City of Bayonne, NJ. This proposed change in the regulation will not alter the operating schedule of the bridge but will allow the bridge to be remotely operated from the Conrail North Jersey Dispatch Center in Mount Laurel, NJ. We invite your comments on this proposed rulemaking.

DATES: Comments and related material must be received by the Coast Guard on or before April 16, 2026.

ADDRESSES: You may submit comments identified by docket number USCG-2025-0805 at https://www.regulations.gov.

See the “Public Participation and Request for Comments” portion of the SUPPLEMENTARY INFORMATION section below for instructions on submitting comments. This notice of proposed rulemaking with its plain-language, 100-word-or-less proposed rule summary will be available in this same docket.

FOR FURTHER INFORMATION CONTACT: If you have questions on this proposed rule, call or email Mr. Gregory P. Hitchen, Northeast Coast Guard District (dpb), the Coast Guard; telephone 571-607-8154, email Gregory.P.Hitchen@uscg.mil.

SUPPLEMENTARY INFORMATION:

I. Table of Abbreviations

CFR Code of Federal Regulations

DHS Department of Homeland Security

FR Federal Register

OMB Office of Management and Budget

NPRM Notice of Proposed Rulemaking (Advance, Supplemental)

§ Section

U.S.C. United States Code

II. Background, Purpose and Legal Basis

The Lehigh Valley Drawbridge across Newark Bay, between the City of Newark and City of Bayonne, NJ, mile 4.6, owned and operated by Conrail, has a vertical clearance of 35 feet above mean high water when closed and 135 feet above mean high water when open.

The current operating schedule is published in 33 CFR 117.735 and will not change with the implementation of remote operation of the bridge. This proposed regulation will allow the bridge to be remotely operated from the Conrail North Jersey Dispatch Center in Mount Laurel, NJ. There are 28 daily train transits that cross the bridge and a daily average of four bridge openings for vessel transits. The bridge is normally maintained in the closed position due to the average daily number of trains crossing the bridge. Newark Bay is a major commercial waterway containing multiple waterfront facilities. However, most of these facilities are well south (downstream) of the Lehigh Valley Lift Bridge.

The Coast Guard is proposing to allow remote operations to improve the efficiency of bridge openings. Currently the on-site bridge operator must consult with the Conrail train dispatcher in Mount Laurel NJ to obtain authorization to open the Lehigh Valley Drawbridge. This process causes delays in authorizing the opening of the bridge, which is a major causative factor in complaints the Coast Guard receives from mariners regarding delayed openings. Remote operations will facilitate direct communication between the mariner and the Conrail train dispatcher, who has much better situational awareness of the multimodal transportation picture.

This modification will also allow the Arthur Kill Railroad Bridge and Hack Freight Railroad Bridge to be remotely operated from the Conrail North Jersey Dispatch Center in Mount Laurel, NJ, instead of being operated by the bridge tender at the Lehigh Valley Drawbridge. The operating schedules for the Arthur Kill Railroad Bridge and Hack Freight Railroad Bridge are published in 33 CFR 117.702 and 33 CFR 117.723, respectively. These regulations already authorize both bridges to be remotely operated, and their schedules will not change as a result of the implementation of remote operation of the Lehigh Valley Drawbridge.

This NPRM is publishing simultaneously with a test deviation in the Rules section of this issue of the Federal Register, under the same name and docket number. Both documents can be found at https://www.regulations.gov and comments can be made to either document.

III. Discussion of Proposed Rule

This proposed operating regulation will allow the Lehigh Valley Drawbridge to be operated remotely from the Conrail North Jersey Dispatch Center in Mount Laurel, NJ. The remote operations system includes eight camera views (four marine and four rail), marine radar, sonar, automated integration system (AIS) sensors, integration software, a dedicated phone line for bridge operations, radiotelephone on VHF-FM channels 13 and 16, and an AIS transmitter to provide bridge status (LEHIGH VALLEY BRG-OPEN, LEHIGH VALLEY BRG-CLOSED, and LEHIGH VALLEY BRG-INOP). The AIS transmitter will transmit the bridge status every two minutes and upon a change in bridge status.

The remote operation system is designed to provide equal or greater capabilities compared to the on-site bridge tender, in visibility of the waterway and bridge, and in signals (communications) via sound and visual signals and radio telephone (voice) via VHF-FM channels 13 and 16. The remote operation system also incorporates real-time bridge status via AIS signal to aid mariners in voyage planning and navigational decision making, a dedicated telephone line (856) 231-2301 for bridge operations, and push-to-talk (PTT) capability on VHF-FM channels 13 and 16. Vessels that require an opening shall continue to request an opening via the methods (sound or visual signals or radio telephone (VHF-FM) voice communications) as defined in 33 CFR 117.15(b) through (d), via telephone at (856) 231-2301, or push-to-talk (PTT) on VHF-FM channel 13. Vessels may push the PTT button five times while on VHF-FM channel 13 and the North Jersey Dispatch Center will receive and respond to the request and commence opening of the bridge.

The remote operation system will be considered failed and qualified personnel will return and operate the Lehigh Valley Drawbridge, Arthur Kill Railroad Bridge, Hack Freight Railroad Bridge within 60 minutes, if any of the following conditions are found: (1) The remote operation system becomes incapable of safely and effectively operating the bridge from the remote operation center, (2) visibility of the waterway or bridge is degraded to less than equal that of an on-site bridge tender (all eight camera views are required), (3) signals (communications) via sound or visual signals or radio telephone (voice) via VHF-FM channels 13 or 16 become inoperative, or (4) AIS becomes inoperative.

IV. Regulatory Analyses

We developed this proposed rule after considering numerous statutes and Executive Orders related to rulemaking. Below we summarize our analyses based on these statutes and Executive Orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities for the following reasons. (1) vessels will continue to transit the bridge per the operating schedule defined in 33 CFR 117.735, (2) the remote operation system is designed to provide equal or greater capabilities compared to the on-site bridge tender, and (3) the bridge owner will be capable of restoring on-site operation of the bridge within 60 minutes if the remote operation system fails.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please contact the person listed in the FOR FURTHER INFORMATION CONTACT section. The Coast Guard will not retaliate against small entities that question or complain about this proposed rule or any policy or action of the Coast Guard.

B. Collection of Information

This proposed rule would call for no new collection of information under the Paperwork Reduction Act of 1995 (44 U.S.C. 3501-3520.).

C. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

E. Environment

We have analyzed this rule under Department of Homeland Security Management Directive 023-01, Rev. 1, associated implementing instructions, and Environmental Planning Policy COMDTINST 5090.1 (series), which guide the Coast Guard in complying with the National Environmental Policy Act of 1969 (NEPA) (42 U.S.C. 4321-4370f). The Coast Guard has determined that this action is one of a category of actions that do not individually or cumulatively have a significant effect on the human environment. This proposed rule promulgates the operating regulations or procedures for drawbridges. Normally such actions are categorically excluded from further review, under paragraph L49, of Appendix A, Table 1 of DHS Instruction Manual 023-01-001-01, Rev. 1.

Neither a Record of Environmental Consideration nor a Memorandum for the Record are required for this rule. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2025-0805 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you go to the online docket and sign up for email alerts through the “Subscribe” option, you will be notified when comments/updates are posted, or a final rule is published.

Personal information. We accept anonymous comments. Comments we post to https://www.regulations.gov will include any personal information you have provided. For more about privacy and submissions in response to this document, see DHS's eRulemaking System of Records notice (85 FR 14226, March 11, 2020).

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; and DHS Delegation No. 00170.1. Revision No.01.3

2. Revise § 117.735 to read as follows:

§ 117.735 Newark Bay.

(a) The following requirements apply to all bridges across this waterway:

(1) Public vessels of the United States, state or local vessels used for public service, and vessels in distress shall be passed through the draw without delay. The opening signal from these vessels is four or more short blasts of a whistle or horn or a radio request.

(2) The owners of these bridges shall provide and keep in good legible condition two board gages painted white with black figures not less than 12 inches high to indicate the vertical clearance under the closed draw at all stages of the tide. The gauges shall be so placed on the bridge that they are plainly visible to operators of vessels approaching the bridge either up or downstream.

(3) Trains and locomotives shall be controlled so that any delay in opening the draw span shall not exceed five minutes. However, if a train moving toward the bridge has crossed the home signal for the bridge before the signal requesting opening of the bridge is given, the train may continue across the bridge and must clear the bridge interlocks before stopping.

(b) The draw of the Lehigh Valley Drawbridge, mile 4.6, between the City of Newark and City of Bayonne, NJ, shall be operated from a remote location at all times, except when it is tended locally.

(1) Closed circuit television cameras shall be operated and maintained at the bridge site to enable the remotely located bridge tender to have a full view of both vessel traffic and the bridge.

(2) Radiotelephone Channel 13/16 VHF-FM shall be maintained and utilized to facilitate communication in both remote and local control locations. A push-to-talk (PTT) will be maintained on VHF-FM channel 13. Vessels may push the PTT button five times while on VHF-FM channel 13 and the remotely located bridge tender will receive and respond to the request and commence opening of the bridge.

(3) The bridge shall also be equipped with directional microphones and horns to receive and deliver signals to vessels

(4) A telephone number will be maintained and posted for mariners to directly contact the remotely located bridge tender.

(5) Whenever the remote control system equipment is partially disabled or fails for any reason, the bridge shall be physically tended and operated by local control as soon as possible, but no more than 60 minutes after malfunction or disability of the remote system. Mechanical bypass and override capability of the remote system shall be provided and maintained.

M.E. Platt,
Rear Admiral, U.S. Coast Guard, Commander, Northeast Guard District.

[FR Doc. 2025-20164 Filed 11-17-25; 8:45 am]

BILLING CODE 9110-04-P